EQUAL EMPLOYMENT OPPORTUNITY COMMISSION

Sunshine Act; Notice of Meeting

Date and Time: Thursday, March 19, 2009, 10 a.m. Eastern Time.

Place: Commission Meeting Room on the First Floor of the EEOC Office Building, 131 “M” Street, NE., Washington, DC 20507.

Status: The meeting will be closed to the public.

Matters To Be Considered

Closed Session: Litigation Recommendation: Amicus Curiae Participation.

Note: Any matter not discussed or concluded may be carried over to a later meeting. (In addition to publishing notices on EEOC Commission meetings in the Federal Register, the Commission also provides a recorded announcement a full week in advance on future Commission sessions.)

Please telephone (202) 663-7100 (voice) and (202) 663-4074 (TTY) at any time for information.

Contact Person for More Information: Stephen Llewellyn, Executive Officer on (202) 663-4070.

Dated: March 18, 2009.
Stephen Llewellyn,
Executive Officer, Executive Secretariat.

[FR Doc. E9-6370 Filed 3-19-09; 11:15 am]

BILLING CODE 6570-01-P